ENVIRONMENTAL PROTECTION AGENCY

40 CFR Part 52

[EPA-R02-OAR-2018-0237; FRL-9978-39—Region 2]

Approval of Air Quality Implementation Plans; New Jersey; Infrastructure SIP Requirements for the 2012 PM2.5 NAAQS; Interstate Transport Provisions

AGENCY: Environmental Protection Agency (EPA).

ACTION: Proposed rule.

SUMMARY: The Environmental Protection Agency (EPA) is proposing to approve elements of the State Implementation Plan (SIP) submission from New Jersey regarding the infrastructure requirements of section 110 of the Clean Air Act (CAA) for the 2012 annual fine particulate matter (PM2.5) National Ambient Air Quality Standard (NAAQS or standard). The infrastructure requirements are designed to ensure that the structural components of each state's air quality management program are adequate to meet the state's responsibilities under the CAA. This action pertains specifically to infrastructure requirements concerning interstate transport provisions.

DATES: Comments must be received on or before June 20, 2018.

ADDRESSES: Submit your comments, identified by Docket ID Number EPA-R02-OAR-2018-0237 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kenneth Fradkin, Environmental Protection Agency, 290 Broadway, New York, New York 10007-1866, at (212) 637-3702, or by email at fradkin.kenneth@epa.gov.

SUPPLEMENTARY INFORMATION: Throughout this document whenever “we,” “us,” or “our” is used, we mean EPA. This supplementary information section is arranged as follows:

I. What is the background of this SIP submission?

II. What guidance is EPA using to evaluate this SIP submission?

III. EPA's Review

IV. What action is EPA taking?

V. Statutory and Executive Order Reviews

I. What is the background of this SIP submission?

The EPA is proposing to approve elements of the State of New Jersey's October 17, 2014 SIP submission, which addresses the section 110(a) infrastructure requirements of the CAA for the following NAAQS: 2012 PM2.5, 2008 ozone, 2008 lead, 2010 nitrogen dioxide (NO2), 2010 sulfur dioxide (SO2), 2011 carbon monoxide (CO), and the 2006 particulate matter of 10 microns or less (PM10). Specifically, this rulemaking proposes to approve the portion of the submission addressing the interstate transport provisions for the 2012 PM2.5 NAAQS under CAA section 110(a)(2)(D)(i)(I), otherwise known as the “good neighbor” provision.

The requirement for states to make an infrastructure SIP submission arises from section 110(a)(1) of the CAA. Pursuant to section 110(a)(1), states must submit “within 3 years (or such shorter period as the Administrator may prescribe) after the promulgation of a national primary ambient air quality standard (or any revision thereof),” a plan that provides for the “implementation, maintenance, and enforcement” of such NAAQS.¹ The statute directly imposes on states the duty to make these SIP submissions, and the requirement to make the submissions is not conditioned upon EPA taking any action other than promulgating a new or revised NAAQS. Section 110(a)(2) includes a list of specific elements that “[e]ach such plan” submission must address. EPA commonly refers to such state plans as “infrastructure SIPs”.

¹ On December 14, 2012 (78 FR 3086), the EPA promulgated a revised primary NAAQS for PM2.5 for the annual standard. The revised standard was set at the level of 12 µg/m³.

The EPA has addressed the interstate transport requirements of CAA section 110(a)(2)(D)(i)(I) with respect to PM2.5 in several prior regulatory actions. In 2011, we promulgated the Cross-State Air Pollution Rule (CSAPR), 76 FR 48208 (August 8, 2011), in order to address the obligations of states—and of the EPA when states have not met their obligations—under CAA section 110(a)(2)(D)(i)(I) to prohibit air pollution contributing significantly to nonattainment in, or interfering with maintenance by, any other state with regard to several NAAQS, including the 1997 annual and 2006 24-hour PM2.5 NAAQS.² In that rule, we considered states linked to downwind receptors if they were projected to contribute more than the threshold amount (1 percent of the standard) of PM2.5 pollution for the 1997 and 2006 PM2.5 NAAQS (76 FR 48208, 48239-43). The EPA has not established a threshold amount for the 2012 PM2.5 NAAQS.

² Federal Implementation Plans; Interstate Transport of Fine Particulate Matter and Ozone and Correction of SIP Approvals, 76 FR 48207 (August 8, 2011) (codified as amended at 40 CFR 52.38 and 52.39 and 40 CFR part 97).

EPA addressed interstate transport provisions for the October 17, 2014 SIP submittal concerning the Prevention of Significant Deterioration (PSD) regulations and visibility protection (i.e., section 110(a)(2)(D)(i)(II)) for 2012 PM2.5, 2008 ozone, 2008 lead, 2010 NO2, 2010 SO2, 2011 CO, and the 2006 PM10 NAAQS) on September 19, 2016.³

³ 81 FR 64070 (September 19, 2016).

EPA addressed the CAA section 110(a)(2)(D)(i)(I) for the 2008 Ozone NAAQS in the EPA's update of the CSAPR rule in October 26, 2016 (81 FR 74504) but did not address New Jersey as it had withdrawn ⁴ that portion of the October 17, 2014 SIP submittal.

⁴ EPA issued a finding to New Jersey for failure to submit on June 15, 2016 (81 FR 38963).

The EPA will address the requirements of CAA sections 110(a)(2)(D)(i)(I) for the 2008 lead, 2010 NO2, 2010 SO2, 2011 CO, and the 2006 PM10 NAAQS in a separate action.

II. What guidance is EPA using to evaluate this SIP submission?

EPA highlighted the statutory requirement to submit infrastructure SIPs within 3 years of promulgation of a new NAAQS in an October 2, 2007 guidance document entitled “Guidance on SIP Elements Required Under sections 110(a)(1) and (2) for the 1997 8-hour Ozone and PM2.5 National Ambient Air Quality Standards” (2007 guidance). EPA has issued additional guidance documents and memoranda, including a September 13, 2013 guidance document titled “Guidance on Infrastructure State Implementation Plan (SIP) Elements under Clean Air Act sections 110(a)(1) and 110(a)(2)” (2013 guidance).

The most recent relevant document was a memorandum published on March 17, 2016, titled “Information on the Interstate Transport `Good Neighbor' Provision for the 2012 Fine Particulate Matter National Ambient Air Quality Standards under Clean Air Act section 110(a)(2)(D)(i)(I)” (2016 memorandum). The 2016 memorandum, which is included in the docket of this rulemaking, describes the approach EPA has previously used to address interstate transport, and provides EPA's general review of relevant modeling data and air quality projections as they relate to the 2012 PM2.5 NAAQS. The 2016 memorandum provides information relevant to EPA Regional office review of the CAA section 110(a)(2)(D)(i)(I) “good neighbor” provision in infrastructure SIPs with respect to the 2012 PM2.5 NAAQS. This rulemaking considers information provided in that memorandum.

In particular, the 2016 memorandum provides states and EPA Regional offices with projected future year annual PM2.5 design values for monitors in the United States based on quality assured and certified ambient monitoring data and air quality modeling. The memorandum further describes how these projected potential design values can be used to help determine which monitors should be further evaluated to potentially address whether emissions from other states significantly contribute to nonattainment or interfere with maintenance of the 2012 PM2.5 NAAQS at those sites. The 2016 memorandum explains that the pertinent year for evaluating air quality for purposes of addressing interstate transport for the 2012 PM2.5 NAAQS is 2021, the attainment deadline for 2012 PM2.5 NAAQS nonattainment areas classified as Moderate. Accordingly, because the available data included 2017 and 2025 projected average and maximum PM2.5 design values calculated through the CAMx ⁵ photochemical model, the memorandum suggests approaches states might use to interpolate PM2.5 values at sites in 2021.⁶

⁵ Comprehensive Air Quality Model with extensions(CAMx).

⁶ Specifically, the 2016 Memorandum explains that one way to assess potential receptors for 2021 is to assume that receptors projected to have average and/or maximum design values above the NAAQS in both 2017 and 2025 are also likely to be either nonattainment or maintenance receptors in 2021. Similarly, it may be reasonable to assume that receptors that are projected to attain the NAAQS in both 2017 and 2025 are also likely to be attainment receptors in 2021. Where a potential receptor is projected to be nonattainment or maintenance in 2017, but projected to be attainment in 2025, further analysis of the emissions and modeling may be needed to make a further judgement regarding the receptor status in 2021.

As explained in the 2016 memorandum, EPA used the methodology used in the CSAPR rule to determine potential nonattainment and maintenance sites. “Nonattainment sites” refer to those sites that are projected to exceed the 2012 PM2.5 NAAQS of 12 micrograms per cubic meter (µg/m³) based on the average future year design values. Those sites that are projected to exceed the NAAQS based on the maximum future year design values are referred to as “maintenance” sites.

Table 1—Projected Nonattainment and Maintenance Sites for the 2012 PM2.5 NAAQS in 2017 and 2025
Monitor ID | State | County | 2017 avg design value (μg/m ³) | 2017 max design value (μg/m ³) | 2025 avg design value (μg/m ³) | 2025 max design value (μg/m ³) | Projected 2017 attainment status | Projected 2025 attainment status
60190011 | California | Fresno | 13.69 | 14.36 | 13.09 | 13.72 | Nonattainment | Nonattainment.
60195001 | California | Fresno | 15.43 | 15.9 | 14.9 | 15.36 | Nonattainment | Nonattainment.
60195025 | California | Fresno | 13.43 | 13.75 | 12.94 | 13.22 | Nonattainment | Nonattainment.
60250005 | California | Imperial | 14.19 | 14.32 | 14.83 | 14.97 | Nonattainment | Nonattainment.
60290014 | California | Kern | 14.24 | 14.85 | 13.78 | 14.37 | Nonattainment | Nonattainment.
60290106 | California | Kern | 15.4 | 16.43 | 14.94 | 15.93 | Nonattainment | Nonattainment.
60311004 | California | Kings | 15.38 | 16.01 | 14.82 | 15.4 | Nonattainment | Nonattainment.
60371002 | California | Los Angeles | 11.6 | 12.25 | 11.42 | 12.07 | Maintenance | Maintenance.
60392010 | California | Madera | 17.37 | 17.62 | 16.9 | 17.14 | Nonattainment | Nonattainment.
60470003 | California | Merced | 13.84 | 15.27 | 13.52 | 14.92 | Nonattainment | Nonattainment.
60658001 | California | Riverside | 12.25 | 12.74 | 11.99 | 12.47 | Nonattainment | Maintenance.
60658005 | California | Riverside | 13.89 | 14.41 | 13.63 | 14.15 | Nonattainment | Nonattainment.
60990006 | California | Stanislaus | 14.44 | 14.79 | 13.97 | 14.31 | Nonattainment | Nonattainment.
60990005 | California | Stanislaus | 12.5 | 12.84 | 12.03 | 12.34 | Nonattainment | Maintenance.
60710025 | California | San Bernardino | 11.79 | 12.35 | 11.61 | 12.15 | Maintenance | Maintenance.
60771002 | California | San Joaquin | 11.49 | 13.09 | 11.16 | 12.71 | Maintenance | Maintenance.
61072002 | California | Tulare | 14.63 | 15.6 | 14.06 | 14.96 | Nonattainment | Nonattainment.
160790017 | Idaho | Shoshone | 12.01 | 12.43 | 11.8 | 12.22 | Maintenance | Maintenance.
420030064 | Pennsylvania | Allegheny | 11.67 | 12.16 | 11.18 | 11.65 | Maintenance | Attainment.

Where EPA had sufficient data to complete its air quality modeling, EPA's analysis showed that, except for one monitoring site in Allegheny County, Pennsylvania, monitors in the eastern United States were expected to both attain and maintain the 2012 PM2.5 NAAQS in both 2017 and 2025. EPA notes that, as further discussed below, EPA's modeling analysis was inconclusive for monitoring sites with incomplete data.

The modeling results provided in the 2016 memorandum also show that out of seven PM2.5 monitors located in Allegheny County, Pennsylvania, only one monitor (ID number 420030064) is expected to be above the 2012 PM2.5 NAAQS in 2017.

Further, that monitor (ID number 420030064 or Liberty monitor) is projected to be above the NAAQS only under the model's maximum projected conditions (used in EPA's interstate transport framework to identify maintenance receptors), and is projected to both attain and maintain the NAAQS (along with all Allegheny County monitors) in 2025. The memorandum therefore indicates that under such a condition (where EPA's photochemical modeling indicates an area will attain the 2012 PM2.5 NAAQS in 2025 but not attain or maintain in 2017) further analysis of the site should be performed to determine if the site may be a nonattainment or maintenance receptor in 2021 (the attainment deadline for moderate PM2.5 areas).

The 2016 Memorandum did note that because of data quality problems, nonattainment and maintenance projections were not done for all or portions of Florida, Illinois, Idaho, Tennessee and Kentucky. Data quality problems were since resolved for Idaho, Tennessee, Kentucky and portions of Florida, identifying no additional potential receptors, with those areas having design values below the 2012 PM2.5 NAAQS and expected to maintain the NAAQS due to downward emission trends for NOX and SO2 (www.epa.gov/air-trends/air-quality-design-values and www.epa.gov/air-emissions-inventories/air-pollutant-emissions-trends-data). As of May 2018, the areas that still have data quality issues preventing projections of nonattainment and maintenance receptors are all of Illinois and four counties in Florida. EPA notes that preliminary design values for the four counties in Florida for the most recent period (2015-2017) have been preliminary deemed complete, and are well below the 2012 PM2.5 NAAQS. This is further discussed in section III below.

III. EPA's Review

This rulemaking proposes action on the portion of New Jersey's October 17, 2014 SIP submission addressing the “good neighbor” provision requirements of CAA section 110(a)(2)(D)(i)(I), which include:

—Prohibiting any source or other type of emissions activity in one state from contributing significantly to nonattainment of the NAAQS in another state (otherwise known as prong 1);

—Prohibiting any source or other type of emissions activity in one state from interfering with maintenance of the NAAQS in another state (prong 2).

This rulemaking is evaluating the October 17, 2014 submission, specific to 110(a)(2)(D)(i)(I) (i.e., prongs 1 and 2) for the 2012 PM2.5 NAAQS.

In several previous rulemakings, EPA has developed and consistently applied a framework for addressing the prong 1 and 2 interstate transport requirements with respect to the PM2.5 NAAQS. That framework has four basic steps, including: (1) Identifying downwind receptors that are expected to have problems attaining or maintaining the NAAQS; (2) identifying which upwind states contribute to these identified problems in amounts sufficient to warrant further review and analysis; (3) for states identified as contributing to downwind air quality problems, identifying upwind emissions reductions necessary to prevent an upwind state from significantly contributing to nonattainment or interfering with maintenance of the NAAQS downwind; and (4) for states that are found to have emissions that significantly contribute to nonattainment or interfere with maintenance of the NAAQS downwind, reducing the identified upwind emissions through adoption of permanent and enforceable measures. This framework was most recently applied with respect to PM2.5 in the CSAPR rule, designed to address both the 1997 and 2006 PM2.5 standards, as well as the 1997 ozone standard.

A. New Jersey's Submittal

New Jersey's October 2014 SIP submittal includes its SIP-approved New Jersey regulations and control measures that the State has implemented to address the interstate transport of air pollutants for criteria pollutants, including the 2012 PM2.5 NAAQS. New Jersey regulations and control measures that have reduced PM2.5, as well as SO2, NOX, and Volatile Organic Carbon (VOC) precursor emissions include:

—New Jersey's low sulfur fuel oil rule, New Jersey Administrative Code (N.J.A.C.) 7:27-9 ⁷, Sulfur in Fuels, reduces SO2 emissions by reducing the sulfur content of fuel oils used throughout the State, including fuel oil-fired electric generating units (EGUs), home heating, and industrial and commercial boilers. The sulfur content of all distillate fuel oils (#2 fuel oil and lighter) was lowered to 500 parts per million (ppm) beginning on July 1, 2014; and further limited to 15 ppm beginning on July 1, 2016. Beginning July 1, 2014, the sulfur content for #4 fuel oil was lowered to 2,500 ppm; and #6 fuel oil was lowered to a range of 3,000 to 5,000 ppm sulfur content;

⁷ EPA approval on January 3,2012(77 FR 19).

—Coal-fired power plants in New Jersey control SO2 emissions by use of scrubbers to comply with adopted SO2 rules including stringent, new short-term SO2 emission limits (i.e., N.J.A.C. 7:27-10.2 ⁸, effective start date for new emission rates was December 2012;

⁸ EPA approval on August 3,2010(75 FR 45483).

—N.J.A.C. 7:27-19.29 ⁹, EGU- High Electric Demand Day (HEDD), require advanced NOX emission controls for EGU's that operate on HEDD days; New Jersey estimated its NOX reasonably available control technology (RACT) rules would reduce NOX emissions by 64 tons per day on HEDD days beginning with the 2015 summer ozone season; and

⁹ EPA approval on August 3,2010 (75 FR 45483).

—New Jersey has a statewide enhanced motor vehicle program that ensures New Jersey has adopted the motor vehicle standards adopted by California to ensure that only the lowest emitting vehicles available are sold in New Jersey

New Jersey has indicated that it has addressed the interstate transport requirements of CAA 110(a)(2)(D)(i)(I) by implementing effective rules to control sources that may significantly contribute to nonattainment of a NAAQS in another state, and therefore addressed New Jersey's downwind contributions from New Jersey sources. New Jersey has also indicated that they have no rules that interfere with the ability of another state to maintain attainment of any ambient air quality standard in that state. New Jersey noted that its rules to control air emissions are more stringent than similar rules in nearby states. The complete list of New Jersey regulations and control measures can be found in the October 2014 SIP submittal, which is included in the docket of this rulemaking.

New Jersey noted that the neighboring states of New York and Delaware do not have any PM2.5 nonattainment areas. Additionally, New Jersey indicated that the State of Pennsylvania, in its area designation recommendations ¹⁰ to EPA for the 2012 PM2.5 NAAQS, determined that nonattainment in the State was caused by local, not regional sources.

¹⁰ Commonwealth of Pennsylvania, Final Designation Recommendations for the 2012 PM2.5 Standard, available at http://www.dep.state.pa.us/dep/deputate/airwaste/aq/attain/pm25des/Final_Designation_Recommendations.pdf.

New Jersey completed its technical analysis before EPA issued the 2016 Memorandum, which, as discussed earlier, included modeling projections for 2017 and 2025 annual PM2.5 design values meant to assist states in implementation of their 2012 PM2.5 NAAQS interstate transport SIPs. As discussed below, however, EPA's review of New Jersey's submittal nevertheless concludes that EPA's modeling projections regarding projected future nonattainment and maintenance areas as indicated in the 2016 memorandum, past EPA contribution modeling performed for CSAPR, and certified annual PM2.5 design values recorded since New Jersey's submittal confirm New Jersey's analysis that the State has adequately addressed the interstate transport requirements of CAA 110(a)(2)(D)(i)(I).

B. EPA Analysis

As stated above, EPA has developed a four-step approach for addressing the prong one and two interstate transport requirements with respect to the PM2.5 NAAQS. The first step is the identification of potential downwind nonattainment and maintenance receptors. EPA identified potential nonattainment and/or maintenance areas in the 2016 memorandum (see section II, Table 1, above). Most of the potential receptors are in California, located in the San Joaquin Valley or South Coast nonattainment areas. There is also one potential receptor in Shoshone County, Idaho, and one potential receptor in Allegheny County, Pennsylvania. In addition, as noted in section II to account for data quality limitations, EPA also considers potential receptors to include all of Illinois and Miami-Dade, Gilchrist, Broward, and Alachua Counties in Florida.

As stated above, “Step 2” is the identification of states contributing to downwind nonattainment and maintenance receptors, such that further analysis is required to identify necessary upwind reductions. For this step, we will be specifically determining if New Jersey emissions contribute to downwind nonattainment and maintenance receptors.

For the 1997 and 2006 PM2.5 NAAQS, we have used air quality modeling and an air quality threshold of one percent of the PM2.5 NAAQS to link contributing states to projected nonattainment or maintenance receptors (76 FR 48237, August 8, 2011). That is, if an upwind state contributes less than the one percent screening threshold to a downwind nonattainment or maintenance receptor, we determine that the state is not “linked” and therefore does not significantly contribute to nonattainment or maintenance problems at that receptor. We have not set an air quality threshold for the 2012 PM2.5 NAAQS and we do not have air quality modeling showing contributions to projected nonattainment or maintenance receptors for this NAAQS.

The EPA believes that a proper and well-supported weight of evidence approach can provide sufficient information for purposes of addressing transport with respect to the 2012 PM2.5 annual NAAQS. We rely on the CSAPR air quality modeling conducted for purposes of evaluating upwind state impacts on downwind air quality with respect to the 1997 annual PM2.5 NAAQS of 15 µg/m³ (as well as the 2006 24-hour PM2.5 NAAQS, and 1997 Ozone NAAQS). Although not conducted for purposes of evaluating the 2012 annual PM2.5 NAAQS, this modeling can inform our analysis regarding both the general magnitude of downwind PM2.5 impacts and the downwind distance in which states may contribute to receptors with respect to the 2012 annual PM2.5 NAAQS of 12 µg/m³. If the same 1% contribution threshold used in CSAPR for the 1997 and 2006 PM2.5 NAAQS applied to the 2012 PM2.5 NAAQS, we could consider the fact that a state's impact was below that value (that is, 0.12 µg/m³). We also note that New Jersey's submittal, described above, relies on several factors to support a finding that emissions from New Jersey sources do not significantly contribute to nonattainment, or interfere with maintenance of, the 2012 PM2.5 NAAQS in downwind states.

We note that no single piece of information is by itself dispositive of the issue. Instead, the total weight of all the evidence taken together is used to evaluate significant contributions to nonattainment or interference with maintenance of the 2012 PM2.5 NAAQS in another state.

Each of the potential receptors is discussed below, with a more in-depth discussion provided in the Technical Support Document (TSD) for this notice. For additional information, links to the documents relied upon for this analysis can be found throughout the document, more information is available in the TSD and the documents can be found in the docket for this action.

California and Idaho

Based on distance considerations alone, New Jersey can be ruled out as a potential contributor to downwind nonattainment and maintenance receptors in California and Idaho. The nearest of these receptors (Shoshone County, Idaho) is over 1,800 miles from New Jersey. Accordingly, EPA proposes to find that New Jersey will not significantly contribute to nonattainment or interfere with maintenance of the 2012 PM2.5 NAAQS in California and Idaho.

Allegheny County, Pennsylvania

As discussed in the TSD for this rulemaking, EPA has analyzed New Jersey's PM2.5 emissions and/or PM2.5 precursors, and found that they do not significantly impact the Allegheny County, Pennsylvania (Liberty monitor) potential maintenance receptor. In our analysis we found that there were strong local influences throughout Allegheny County and contributions from nearby states that contributed to its nonattainment for both the 1997 and 2006 PM2.5 NAAQS. Contributors to the Liberty monitor in Allegheny County, Pennsylvania have taken steps in recent years, to improve air quality which will likely bring the monitor into compliance with the 2012 PM2.5 annual NAAQS by the 2021 attainment date.

Another compelling fact is that in previous modeling, nonattainment in Allegheny County, Pennsylvania was linked to significant contributions from other states.¹¹ New Jersey was analyzed in this modeling, and New Jersey emissions were not linked to Allegheny County. EPA notes that, in fact, New Jersey's contribution in the CSAPR 2012 base case modeling was 0.024 µg/m³, well below 1% of the standard for linkage to downwind receptors.

¹¹ Air Quality Modeling for 2011 Cross-State Air Pollution Rule (CSAPR) (76 FR 48207, August 8, 2011).

For these reasons, we propose to find that New Jersey will not significantly contribute to nonattainment or interfere with maintenance of the 2012 PM2.5 NAAQS for Allegheny County, Pennsylvania.

Miami/Dade, Gilchrist, Broward, Alachua Counties, Florida

In the CSAPR modeling analysis, Florida did not have any potential nonattainment or maintenance receptors identified for the 1997 or 2006 PM2.5 NAAQS. At this time, it is anticipated that this trend will continue.

As mentioned earlier in this section, as there are ambient monitoring data gaps in the 2009-2013 data that could have been used to identify potential PM2.5 nonattainment and maintenance receptors for Miami/Dade, Gilchrist, Broward and Alachua counties in Florida, the modeling analysis of potential receptors was not complete for these counties. However, EPA notes that the most recent ambient data (2015-2017) for these counties has been preliminarily deemed complete and indicates design values well below the level of the 2012 PM2.5 NAAQS. This is also consistent with historical data: Complete and valid design values in the 2006-2008, 2007-2009, and/or 2008-2010 periods for these counties were well below the 2012 PM2.5 NAAQS. In addition, the highest preliminary value for these observed monitors is 7.5 µg/m³ at a Miami-Dade County monitor (ID 120861016). For these reasons, we find that none of the counties in Florida with monitoring gaps between 2009-2013 should be considered either nonattainment or maintenance receptors for the 2012 PM2.5 NAAQS. Therefore, we propose that New Jersey will not significantly contribute to nonattainment or interfere with maintenance of the 2012 PM2.5 NAAQS in Florida.

Illinois

As indicated previously, data quality issues prevent projections of nonattainment and maintenance receptors in Illinois. Previous CSAPR modeling, however, indicates that New Jersey emissions would not impact potential nonattainment and maintenance receptors in Illinois. New Jersey's contribution in the CSAPR 2012 base case modeling was 0.003 µg/m³ or less to Illinois counties, a very small fraction of the threshold amount (well below 1% of the standard) for linkage to downwind receptors.

For this reason alone, we propose that New Jersey will not significantly contribute to nonattainment or interfere with maintenance of the 2012 PM2.5 NAAQS in Illinois.

Since we determined that New Jersey's SIP includes provisions prohibiting any source or other type of emissions activity from contributing significantly to nonattainment in or interfering with maintenance of the NAAQS in another state, steps 3 and 4 of this evaluation are not necessary.

In conclusion, based on our review of the potential receptors presented in the 2016 memorandum, an evaluation identifying likely emission sources affecting these potential receptors, distance considerations, and the 2012 base case modeling in the CSAPR final rule, we propose to determine that emissions from New Jersey sources will not contribute significantly to nonattainment in or interfere with maintenance by, any other state with regard to the 2012 annual PM2.5 NAAQS.

IV. What action is EPA taking?

EPA is proposing to approve the portion of New Jersey's October 17, 2014 SIP submission addressing the interstate transport provisions for the 2012 PM2.5 NAAQS under CAA section 110(a)(2)(D)(i)(I).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Authority: 42 U.S.C. 7401 et seq.

Dated: May 8, 2018.
Peter D. Lopez,
Regional Administrator, Region 2.

[FR Doc. 2018-10803 Filed 5-18-18; 8:45 am]

BILLING CODE 6560-50-P